FEDERAL RETIREMENT THRIFT INVESTMENT BOARD

Sunshine Act Meeting

TIME AND DATE: 9 a.m., September 10, 2001.

PLACE: National Finance Center, TANO Building, Conference Room 7, 13800 Old Gentilly Road, New Orleans, Louisiana.

STATUS: Open.

MATTERS TO BE CONSIDERED:

1. Approval of the minutes of the August 13, 2001, Board member meeting.

2. Thrift Savings Plan activity report by the Executive Director.

3. Review of FY 2001 budget and projected expenditures, approval of FY 2002 proposed budget, and review of FY 2003 budget estimate.

CONTACT PERSON FOR MORE INFORMATION: Thomas J. Trabucco, Director, Office of External Affairs, (202) 942-1640.

Dated: August 28, 2001.
Elizabeth S. Woodruff,
Secretary to the Board, Federal Retirement Thrift Investment Board.

[FR Doc. 01-22021 Filed 8-28-01; 2:47 pm]

BILLING CODE 6760-01-M